DEPARTMENT OF DEFENSE

Office of the Secretary

Submission for OMB Review; Comment Request

ACTION: Notice.

The Department of Defense has submitted to OMB for clearance, the following proposal for collection of information under the provisions of the Paperwork Reduction Act (44 U.S.C. Chapter 35).

Dates: Consideration will be given to all comments received by May 11, 2005.

Title, Form, and OMB Number: Department of Defense Dependents Schools (DoDDS) Overseas Employment Opportunities for Education; DoDEA Forms 5010, 5011, 5012, and 5013; OMB Number 0704-0370.

Type of Request: Extension.

Number of Respondents: 25,120.

Responses per Respondent: 1.

Annual Responses: 25,210.

Average Burden Per Response: 10 minutes (average).

Annual Burden Hours: 4,127.

Needs and Uses: This information collection requirement is necessary to obtain information on prospective applicants for educator positions within the Department of Defense Dependents Schools. The information is used to verify employment history of educator applicants and to determine creditable previous experience for pay-setting purposes on candidates selected for positions. In addition, the information is used to ensure that those individuals selected for employment with the Department of Defense Dependents Schools possess the abilities and personal traits which give promise of outstanding success under the unusual circumstances they will find working abroad. Information gathered is also used to ensure that the Department of Defense Dependents Schools personnel practices meet the requirements of Federal law. Completion of the forms is entirely voluntary with the exception of the form requesting a professional evaluation of the applicant. This information is gathered from those in supervisory and managerial positions ascertain information is relative to educator's personality and professional abilities.

Affected Public: Individuals or households; Business or other for-profit; Not-for-profit institutions; Federal government; and State, local, or tribal government.

Frequency: On Occasion.

Respondent's Obligation: Required to Obtain or Retain Benefits.

OMB Desk Officer: Mr. Lewis Oleinick.

Written comments and recommendations on the proposed information collection should be sent to Mr. Oleinick at the Office of Management and Budget, Desk Officer for DoD, Room 10236, New Executive Office Building, Washington, DC 20503.

DOD Clearance Officer: Mr. Robert Cushing.

Written requests for copies of the information collection proposal should be sent to Mr. Cushing, WHS/ESCD/Information Management Division, 1225 South Clark Street, Suite 504, Arlington, VA 22202-4326.

Dated: March 30, 2005.
Patricia L. Toppings,
Alternate OSD Federal Register Liaison Officer, Department of Defense.

[FR Doc. 05-7123 Filed 4-8-05; 8:45 am]

BILLING CODE 5001-06-M